DEPARTMENT OF AGRICULTURE

Commodity Credit Corporation

7 CFR Part 1468

[Docket ID NRCS-2019-0006]

RIN 0578-AA66

Agricultural Conservation Easement Program

AGENCY: Natural Resources Conservation Service (NRCS) and the Commodity Credit Corporation (CCC), U.S. Department of Agriculture (USDA).

ACTION: Interim rule; correction and extension of comment period.

SUMMARY: On January 6, 2020, CCC and NRCS published an interim rule in the Federal Register that made changes to the Agricultural Conservation Easement Program (ACEP) regulations. This correction is being published to address minor errors in the preamble portion of the ACEP interim rule published on January 6, 2020. There are no changes to the ACEP regulations as published on January 6, 2020. CCC and NRCS are also extending the comment period and asking for public input on additional specific questions.

DATES: Effective: January 24, 2020.

Comments Date: The comment period for the Interim rule published January 6, 2020, at 85 FR 558, is extended. We will consider comments that we receive by March 20, 2020.

ADDRESSES: We invite you to submit comments on the ACEP interim rule as amended by this correction, the EA, and FONSI. In your comment, please specify RIN 0578-AA66 and include the date, volume, and page number of this issue of the Federal Register, and the title of the rule. You may submit comments through the:

• Federal eRulemaking Portal: Go to http://www.regulations.gov and search for Docket ID NRCS-2019-0006. Follow the online instructions for submitting comments.

All written comments received will be publicly available on www.regulations.gov.

A copy of the related Environmental Analysis (EA) and Finding of No Significant Impact (FONSI) may be obtained at https://www.nrcs.usda.gov/wps/portal/nrcs/detailfull/national/programs/farmbill/?cid=stelprdb1263599.

A hard copy may also be requested in one of the following ways:

• Via mail: karen.fullen@usda.gov with “Request for EA” in the subject line; or

• A written request: Karen Fullen, Environmental Compliance Specialist, Natural Resources Conservation Service, 9173 W Barnes Dr., Suite C, Boise, ID 83709.

FOR FURTHER INFORMATION CONTACT: Jeffrey White, 202-720-1882; email: Jeffrey.White2@usda.gov. Persons with disabilities who require alternative means for communication should contact the USDA Target Center at (202) 720-2600 (voice).

SUPPLEMENTARY INFORMATION: The ACEP interim rule was published in the Federal Register on January 6, 2020, (85 FR 558-590) to make changes to the ACEP policies and procedures in the ACEP regulations in 7 CFR part 1468. This correction is being published to address minor errors in the preamble portion of the ACEP interim rule. There are no changes to the ACEP regulations as published on January 6, 2020.

The Docket ID provided in the ADDRESSES section in the interim rule was incorrect as it should have matched the number provided in the document heading. The correct Docket ID is NRCS-2019-0006 and is correct throughout this document.

Additionally, in the ACEP wetland reserve easements (ACEP-WRE) Key-Changes preamble section on ACEP-WRE Wetland Restoration, on page 564 of the January 6, 2020, interim rule, the definition of “wetland restoration” from the previous ACEP regulation had been included for reference. NRCS recognizes that including the former definition may cause confusion. The interim rule revised the definition, and the new definition for the term “wetland restoration” can be found in § 1468.3 as revised.

Request for Public Input

At the time the interim rule was published, NRCS intended to request comment with respect to two additional matters.

In the discussion of § 1468.20(d) under the preamble heading “Summary of Changes to Subpart B, Agricultural Land Easements (ACEP-ALE)”, on page 565 of the interim rule, NRCS discussed the criteria by which land can be determined eligible and explains the reasons why land enrolled in ACEP-ALE cannot include forest land greater than two-thirds of the ACEP-ALE easement area. NRCS is requesting public comment about whether other NRCS conservation programs with an easement component, such as the Healthy Forest Reserve Program or the Regional Conservation Partnership Program, should be used to assist in the protection of agricultural lands on which nonindustrial private forest is the predominate use at levels beyond the scope of ACEP-ALE.

Additionally, NRCS requests public comment on recommendations to streamline access to ACEP and input on new or existing ranking criteria that would assist NRCS in selecting projects that best further ACEP purposes. Specifically, NRCS is considering whether there is anything that would fit under the language `other related conservation benefits' identified in § 1468.22(c)(3)(iv) that would not fit within the other criteria listed in § 1468.22(c)(3), in consideration of whether the criteria of `other related conservation benefits' should be kept (see page 580 of the interim rule). All comments received on or before the closing date for comments, March 20, 2020, will be considered. NRCS will review and respond to the public comments in the ACEP final rule.

The comment period for the ACEP interim rule was initially scheduled to close on March 6, 2020. This correction extends the comment period, which will now close on March 20, 2020. The public comment period for the EA and FONSI has also been extended until March 20, 2020. In addition, the URL in the January 6, 2020, interim rule for the EA and FONSI was in error. There have been no changes to either the EA or FONSI, the correction is that the URL was not going to the web page that contains the EA and FONSI. A copy of the EA and FONSI may be obtained at https://www.nrcs.usda.gov/wps/portal/nrcs/detailfull/national/programs/farmbill/?cid=stelprdb1263599.

Kevin Norton,
Associate Chief, Natural Resources Conservation Service.
Robert Stephenson,
Executive Vice President, Commodity Credit Corporation.

[FR Doc. 2020-01066 Filed 1-22-20; 4:15 pm]

BILLING CODE 3410-16-P